DEPARTMENT OF JUSTICE

Drug Enforcement Administration

Manufacturer of Controlled Substances; Notice of Application; Correction

On August 6, 2008, the Drug Enforcement Administration (DEA) published a Notice of Application for Registration for Chattem Chemicals Inc., 3801 St. Elmo Avenue, Building 18, Chattanooga, Tennessee 37409 in the Federal Register pursuant to 21 CFR 1301.33(a) (73 FR 45784). On May 28, 2008, Chattem Chemicals Inc., had made application by renewal to DEA as a bulk manufacturer of the certain basic classes of controlled substances listed in schedules I and II. The Notice of Application published August 6, 2008, listed the following basic classes of controlled substances for which Chattem Chemicals Inc. sought registration as a bulk manufacturer:

Drug | Schedule
4-Methoxyamphetamine (7411) | I
Difenoxin (9168) | I
Amphetamine (1100) | II
Methamphetamine (1105) | II
Methylphenidate (1724) | II
Pentobarbital (2270) | II
Codeine (9050) | II
Oxycodone (9143) | II
Hydrocodone (9193) | II
Meperidine (9230) | II
Dextropropoxyphene, bulk (non-dosage forms) (9273) | II
Morphine (9300) | II
Thebaine (9333) | II
Noroxymorphone (9668) | II
Alfentanil (9737) | II
Sufentanil (9740) | II
Fentanyl (9801) | II

DEA inadvertently did not include the following substances for which Chattem Chemicals Inc. also seeks registration as a bulk manufacturer:

Drug | Schedule
Lisdexamfetamine Mesylate (1205) | II
Dihydrocodeine (9120) | II
Dihydromorphine (9145) | II
Hydromorphone (9150) | II
Oripavine (9330) | II
Oxymorphone (9652) | II
Reminfentanil (9739) | II

The company plans to manufacture the listed controlled substances in bulk for distribution to its customers.

Any other such applicant, and any person who is presently registered with DEA to manufacture such substances, may file comments or objections to the issuance of the proposed registration pursuant to 21 CFR 1301.33(a).

Any such written comments or objections should be addressed, in quintuplicate, to the Drug Enforcement Administration, Federal Register Representative (ODL), 8701 Morrissette Drive, Springfield, Virginia 22152.

As DEA inadvertently did not include all basic classes of controlled substances for which Chattem Chemicals Inc. sought registration in the Notice of Application published August 6, 2008, DEA is extending the comment period for this application in accordance with 21 CFR 1301.33(a). Therefore, the comment period for this application is extended from October 6, 2008 to November 14, 2008.

Dated: September 8, 2008.
Joseph T. Rannazzisi,
Deputy Assistant Administrator, Office of Diversion Control, Drug Enforcement Administration.

[FR Doc. E8-21461 Filed 9-12-08; 8:45 am]

BILLING CODE 4410-09-P